DEPARTMENT OF THE INTERIOR

National Park Service

Draft Environmental Impact Statement/Environmental Impact Report for Redwood Creek and Wetland Restoration at Big Lagoon-Muir Beach Area Golden Gate National Recreation Area Marin County, CA; Notice of Availability

Summary: Pursuant to § 102(2)(C) of the National Environmental Policy Act of 1969 (Pub. L. 91-190, 42 U.S.C. 4321-4347, January 1, 1970, as amended), and the Council on Environmental Quality Regulations (40 CFR parts 1500 through 1508), the National Park Service, Department of the Interior, has prepared a Draft Environmental Impact Statement/Draft Environmental Report (Draft EIS/EIR) for the Wetland and Creek Restoration at Big Lagoon. This Draft EIS/EIR evaluates alternatives for ecological restoration and public access upgrades in the Big Lagoon area at Muir Beach, part of the Golden Gate National Recreation Area (GGNRA). The National Park Service (NPS) and County of Marin (County) have jointly prepared the Draft EIS/EIR in accordance with the National Environmental Policy Act (NEPA) and the California Environmental Quality Act (CEQA). The Draft EIS/EIR analyzes multiple alternatives for ecological restoration, public access improvements, bridge replacement, and fill disposal locations. The alternatives are based upon park values, effective restoration strategies and public access approaches, NPS and County policy, and applicable law.

Background: Redwood Creek is a coastal stream located in Marin County, California. The project's area of potential effect encompasses the lower reach of Redwood Creek extending from where the creek passes underneath Highway 1, to its mouth at the Pacific Ocean approximately 2,800 feet downstream. Within this reach, the creek and its floodplain have been extensively modified by realignment of the creek; construction of Pacific Way and the Pacific Way bridge, a levee road that borders the creek, and the NPS parking lot and picnic area; and placement of gabions and other artificial fill in the creek channel and on its floodplain. Combined, these modifications to the creek and its floodplain have altered channel hydraulics and reduced its sediment transport capacity, resulting in extreme sediment deposition in the creek channel and reduction in channel capacity. Under current conditions, the creek floods during even moderate rain events, inundating Pacific Way, stranding residents, and hindering access to the public beach. In the winter, residents along Pacific Way often cannot access Highway 1, the sole connecting road, because floodwaters commonly prevent passage by vehicles and pedestrians. This lack of access severely limits emergency services.

In addition to the flooding, current conditions in lower Redwood Creek present a risk of channel avulsion, in which the creek could abandon its existing channel and establish a new channel in the floodplain. Avulsion of the channel to the adjacent meadow, which is several feet lower in elevation than the channel bed, could impair passage of adult and juvenile coho salmon and steelhead through the lower creek and could have undetermined consequences to infrastructure.

GGNRA has determined that restoration activities at the project site are necessary to address these issues, GGNRA and the County have been involved in an active planning process to identify alternative restoration and public access alternatives to address these identified issues.

Proposal and Alternatives: As noted, this Draft EIS/EIR describes and analyzes four alternatives. Alternative 1, the “baseline” No Action Alternative, would maintain the existing management direction. Alternatives 2, 3, and 4 (action alternatives) contain varying mixes of three main components: (1) Ecological restoration; (2) public access upgrades, including a reconfiguration of the existing parking lot; and (3) replacement of the Pacific Way Bridge. Each of the action alternatives incorporates the following elements: Interim flood reduction measures; Relocation of the Redwood Creek channel; Construction of new drainage swale and upper pasture modification; Backbeach lagoon enhancement, channel realignment, and dune restoration; Removal of levee road; Invasive species removal; Removal of tavern remnants; Removal of utility lines; Removal of concrete channels and revetment; Modification to Green Gulch field 7. The main differences between the action alternatives is the approach by which ecological restoration would occur.

Alternative 3 would combine riparian restoration components with restoration of open water and wetland habitants. Two open-water lagoons would be created, one on either side of the new channel. The two small lagoons would be backwaters, connected to the creek near the downstream end of each lagoon. The banks of the lagoons would have varied slopes to favor a variety of habitats. The lagoons would maintain a minimum water depth of 3-4 feet year-round. Alternative 4 would create a periodically brackish open-water habitat similar to historic (1853) conditions, modified to reflect existing constraints of Pacific Way and private property. This would involve creating a large lagoon with fringing wetlands extending to the edge of the valley immediately landward of Muir Beach. The lagoon would be excavated with gentle side slopes to encourage colonization of emergent wetland vegetation. Like the small lagoons under Alternative 3, the large lagoon would maintain a minimum water depth of 3-4 feet year-round.

Alternative 2 (Creek Restoration) (agency-preferred alternative) would involve relocating approximately 2,000 linear feet of Redwood Creek to the topographically lowest portion of the valley, while maintaining a habitat mix similar to current conditions. In addition to relocating Redwood Creek, this alternative includes the following two core elements: Parking—A parking lot with capacity for 175 cars located parallel to Pacific Way. The lot would include a new turn-off from Pacific Way and would include 310 linear feet of stacking room for cars between the entrance and the first parking stall. Other parking lot options considered in the Draft EIS/EIR include: maintaining the current capacity of 175 Cars at Beach; Alternative B1 (50 Cars at Beach); Alternative B2 (145 Cars at Beach); Alternative B3 (175 Cars at Beach—similar shape as existing lot); Alternative B5 (200 Cars at Beach); and Alternative C (118 Cars at Alder Grove plus 14 Handicapped Spaces and Drop-Off at Beach).

Bridge Replacement—150-foot-long bridge with raised road. This bridge would span the new 35-foot-wide channel and areas of riparian habitat and flood plain on either side of the channel. Two-foot-wide piers, placed at approximately 40-foot intervals, would be used to support the span. Other bridge alternatives considered in the Draft EIS/EIR include: Alternative BR1 (50-foot-long bridge with a raised road); Alternative BR2 (50-foot-long bridge with a low road); Alternative BR3 (150-foot-long bridge with raised road); and Alternative BR4 (266- to 300-foot-long bridge with highest road).

Scoping and Public Involvement: Between December 2002 and December 2004, 17 public meetings were held, as well as a variety of site visits and meetings with representatives of various agencies. On December 3, 2002, a Notice of Intent (NOI) to prepare an Environmental Impact Statement was published in the Federal Register, beginning the formal scoping process for the project. The NOI identified goals for the project, and public scoping meetings were held on October 22, October 29, and November 2, 2002, with a site visit for the public held on November 9, 2002, to solicit input on the project and its potential impacts. Following these meetings, a Big Lagoon Working Group consisting of interested individuals, agencies, and organizations was formed to help develop project alternatives. The working group convened regularly in meetings that were open to the public. In addition, two alternatives workshops were held for the public on September 30 and October 4, 2003. The results of those workshops, as well as a more detailed summary of the scoping process, are presented in the Alternatives Public Workshops Report (NPS 2004). Finally, Marin County circulated a Notice of Preparation of an Environmental Impact Report on April 27, 2004, soliciting comments on the specific issues to be included in the scope of CEQA environmental review. All of these activities informed the alternatives formulation process.

Comments: Copies of the Draft EIS/EIR will be sent to affected Federal, Tribal, State and local government agencies, to interested parties, and those requesting copies. Paper and digital copies (compact disc) of the document will also be available at park headquarters and at local libraries. The complete document will be posted on the GGNRA's Web site (http://www.nps.gov/goga) and on NPS's Planning, Environment and Public Comment Web site (http://parkplanning.nps.gov/goga). All written comments must be postmarked or transmitted no later than 75 days from the date of EPA's notice of filing published in the Federal Register (as soon as this occurs, the confirmed close of the comment period will be posted on the Web sites noted above, and listed in all notification announcements sent from GGNRA). Written comments will be accepted online at http://parkplanning.nps.gov/goga (click on the project title and follow instructions), or by sending a letter addressed as follows: Superintendent, Golden Gate National Recreation Area, Fort Mason, Building 201, San Francisco, CA 94123 (Attn: Muir Beach Creek and Wetland Restoration). Two public meetings will be scheduled to hear comments on the Draft EIS/EIR, approximately 30 days after publication of this notice in the Federal Register. Please visit the project Web site (noted above) to learn more about the project, planning process, and the confirmed dates and time for the public meetings. Questions regarding this project may also be directed at any time to Steve Ortega (415) 561-4841 or via e-mail at steve_ortega@nps.gov.

All comments are maintained in the administrative record and will be available for public review at GGNRA headquarters. Please note our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Decision Process: Following the analysis of all comments received concerning the Draft EIS/EIR, at this time it is anticipated that the Final EIS/EIR would be completed in spring 2007. The availability of the final documents will be announced in the Federal Register, and also publicized via local and regional press media, direct mailings, and Web site postings. Not sooner than thirty days after the distribution of the Final EIS/EIR, a Record of Decision may be executed (at this time it is anticipated a recommended decision would be developed in summer 2007). As a delegated EIS the approving official responsible for the final decision is the Regional Director, Pacific West Region. Subsequently, the official responsible for implementing the approved wetland and restoration plan will be the General Superintendent, Golden Gate National Recreation Area.

Dated: October 3, 2006.
Patricia L. Neubacher,
Acting Regional Director, Pacific West Region.

[FR Doc. 06-9748 Filed 12-15-06; 8:45 am]

BILLING CODE 4312-FN-M